ENVIRONMENTAL PROTECTION AGENCY

[FRL-7508-1]

Petroleum Products Superfund Site; Notice of Proposed De Minimis Settlement

AGENCY: Environmental Protection Agency.

ACTION: Notice of proposed de minimis settlement.

SUMMARY: Under section 122(g)(4) of the Comprehensive Environmental Response, Compensation and Liability Act (CERCLA), the Environmental Protection Agency (EPA) has offered a de minimis settlement at the Petroleum Products Superfund Site (Site) under an Administrative Order on Consent (AOC) to settle claims for past and future response costs at the Site. Approximately 58 parties have returned signature pages accepting EPA's settlement offer. EPA will consider public comments on the proposed settlement until July 7, 2003. EPA may withdraw from or modify the proposed settlement should such comments disclose facts or considerations which indicate the proposed settlement is inappropriate, improper, or inadequate. Copies of the proposed settlement are available from: Ms. Paula V. Batchelor, U.S. Environmental Protection Agency, Region IV, CERCLA Program Services Branch, Waste Management Division, 61 Forsyth Street, SW., Atlanta, Georgia 30303. (404) 562-8887.

Written comment may be submitted to Greg Armstrong at the above address within 30 days of the date of publication.

Dated: May 16, 2003.
Anita Davis,
Acting Chief, CERCLA Program Services Branch, Waste Management Division.

[FR Doc. 03-14193 Filed 6-4-03; 8:45 am]

BILLING CODE 6560-50-P